DEPARTMENT OF HOUSING AND URBAN DEVELOPMENT

[Docket No. FR-4901-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for possible use to assist the homeless.

FOR FURTHER INFORMATION CONTACT: Kathy Burruss, room 7266, Department of Housing and Urban Development, 451 Seventh Street SW., Washington, DC 20410; telephone (202) 708-1234; TTY number for the hearing- and speech-impaired (202) 708-2565 (these telephone numbers are not toll-free), or call the toll-free Title V information line at 1-800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the their own expense. Homeless assistance providers interested in any such property should send a written expression of interest to HHS, addressed to Shirley Kramer, Division of Property Management, Program Support Center, HHS, room 5B-41, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Kathy Burruss at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Marsha Pruitt, Realty Officer, Department of Agriculture, Reporters Building, 300 7th Street, SW., Rm. 310B, Washington, DC 20250; (202) 720-4335; ARMY: Ms. Julie Jones-Conte, Headquarters, Department of the Army, Office of the Assistant Chief of Program Integration Office, Attn: DAIM-MD, Room 1E677, 600 Army Pentagon, Washington, DC 20310-0600; (703) 692-9223; COAST GUARD: Commandant, U.S. Coast Guard, Attn: Teresa Sheinberg, 2100 Second St., SW., Rm. 6109, Washington, DC 20593-0001; (202) 267-6142; ENERGY: Mr. Tom Knox, Department of Energy, Office of Engineering & Construction Management, CR-80, Washington, DC 20585; (202) 586-8715; NAVY: Mr. Charles C. Cocks, Director, Department of the Navy, Real Estate Policy Division, Naval Facilities Engineering Command, Washington Navy Yard, 1322 Patterson Ave., SE., Suite 1000, Washington, DC 20374-5065; (202) 685-9200; (These are not toll-free numbers).

Dated: March 4, 2004.
Mark R. Johnston,
Acting Director, Office of Special Needs Assistance Programs.

Title V, Federal Surplus Property Program Federal Register Report for 3/12/2004

Suitable/Available Properties

Buildings (by State)

California

Bldg. 00726

Mare Island USAR Ctr

Vallejo Co: Solano CA 94592-

Landholding Agency: Army

Property Number: 21200410082

Status: Unutilized

Comment: 4100 sq. ft., presence of asbestos, potential lead base paint, most recent use—vehicle maint., off-site use only

Bldg. 00736

Mare Island USAR Ctr

Vallejo Co: Solano CA 94592-

Landholding Agency: Army

Property Number: 21200410083

Status: Unutilized

Comment: 250 sq. ft., presence of asbestos, potential lead base paint, most recent use—storage, off-site use only

Bldg. 00776

Mare Island USAR Ctr

Vallejo Co: Solano CA 94592-

Landholding Agency: Army

Property Number: 21200410084

Status: Unutilized

Comment: 3060 sq. ft., presence of asbestos, potential lead base paint, most recent use—storage, off-site use only

Bldg. 00930

Mare Island USAR Ctr

Vallejo Co: Solano CA 94592-

Landholding Agency: Army

Property Number: 21200410085

Status: Unutilized

Comment: 26,635 sq. ft., presence of asbestos, potential lead base paint, most recent use—admin., off-site use only

Bldg. 00934

Mare Island USAR Ctr

Vallejo Co: Solano CA 94592-

Landholding Agency: Army

Property Number: 21200410086

Status: Unutilized

Comment: 1275 sq. ft., presence of asbestos, potential lead base paint, most recent use—storage, off-site use only

Bldg. 00938

Mare Island USAR Ctr

Vallejo Co: Solano CA 94592-

Landholding Agency: Army

Property Number: 21200410087

Status: Unutilized

Comment: 1550 sq. ft., presence of asbestos, potential lead base paint, most recent use—classroom, off-site use only

Hawaii

5 Bldgs.

Schofield Barracks

3900, 3904, 3905, 3913, 3916

Wahiawa Co: Honolulu HI 96857-

Landholding Agency: Army

Property Number: 21200410093

Status: Unutilized

Comment: 7393 sq. ft. each, concrete, most recent use—housing, off-site use only

4 Bldgs.

Schofield Barracks

3903, 3908, 3909, 3910

Wahiawa Co: Honolulu HI 96857-

Landholding Agency: Army

Property Number: 21200410094

Status: Unutilized

Comment: 5820 sq. ft. each, concrete, most recent use—housing, off-site use only

4 Bldgs.

Schofield Barracks

3917, 3924, 3935, 3941

Wahiawa Co: Honolulu HI 96857-

Landholding Agency: Army

Property Number: 21200410095

Status: Unutilized

Comment: 4470 sq. ft. each, concrete, most recent use—housing, off-site use only

14 Bldgs.

Schofield Barracks

Wahiawa Co: Honolulu HI 96857-

Location: 3918-3919, 3921-3923, 3925-3929, 3931, 3933, 3937, 3939

Landholding Agency: Army

Property Number: 21200410096

Status: Unutilized

Comment: 4820 sq. ft. each, concrete, most recent use—housing, off-site use only

Maryland

Bldg. 8503

Fort George G. Meade

Ft. Meade Co: MD 20755-5115

Landholding Agency: Army

Property Number: 21200410097

Status: Unutilized

Comment: 3801 sq. ft., concrete block, most recent use—office, off-site use only

Bldg. 8542

Fort George G. Meade

Ft. Meade Co: MD 20755-5115

Landholding Agency: Army

Property Number: 21200410098

Status: Unutilized

Comment: 2372 sq. ft., most recent use—office, off-site use only

Bldg. 8611

Fort George G. Meade

Ft. Meade Co: MD 20755-5115

Landholding Agency: Army

Property Number: 21200410100

Status: Unutilized

Comment: 38,490 sq. ft., concrete brick, most recent use—barracks, off-site use only

Missouri

12 Bldgs

Fort Leonard Wood

Ft. Leonard Wood Co: Pulaski MO 65743-8944

Location: 07036, 07050, 07054, 07102, 07400, 07401, 08245, 08249, 08251, 08255, 08257, 08261.

Landholding Agency: Army

Property Number: 21200410110

Status: Unutilized

Comment: 7152 sq. ft. 6 plex housing quarters, potential contaminants, off-site use only

6 Bldgs

Fort Leonard Wood

Ft. Leonard Wood Co: Pulaski MO 65743-8944

Location: 07044, 07106, 07107, 08260, 08281, 08300

Landholding Agency: Army

Property Number: 21200410111

Status: Unutilized

Comment: 9520 sq ft., 8 plex housing quarters, potential contaminants, off-site use only

15 Bldgs

Fort Leonard Wood

Ft. Leonard Wood Co: Pulaski MO 65743-8944

Location: 08242, 08243, 08246-08248, 08250, 08252,-08254, 08256, 08258-08259, 08262-08263, 08265

Landholding Agency: Army

Property Number: 21200410112

Status: Unutilized

Comment: 4784 sq ft., 4 plex housing quarters, potential contaminants, off-site use only

Bldgs. 08283, 08285

Fort Leonard Wood

Ft. Leonard Wood Co: Pulaski MO 65743-8944

Landholding Agency: Army

Property Number: 21200410113

Status: Unutilized

Comment: 2240 sq ft., 2 plex housing quarters, potential contaminants, off-site use only

15 Bldgs

Fort Leonard Wood

Ft. Leonard Wood Co: Pulaski MO 65743-8944

Location: 08267, 08269, 08271, 08273, 08275, 08277, 08279, 08290-08296, 08301

Landholding Agency: Army

Property Number: 21200410114

Status: Unutilized

Comment: 4784 sq ft., 4 plex housing quarters, potential contaminants, off-site use only

Bldg. 09432

Fort Leonard Wood

Ft. Leonard Wood Co: Pulaski MO 65743-8944

Landholding Agency: Army

Property Number: 21200410115

Status: Unutilized

Comment: 8724 sq ft., 6-plex housing quarters, potential contaminants, off-site use only

Montana

Ofc. Bldg.

Aerial Fire Depot

Missoula Co: MT 59808-

Landholding Agency: Agriculture

Property Number: 15200410001

Status: Unutilized

Comment: 957 sq. ft. w/598 sq. ft. garage, presence of asbestos, off-site use only

Wisconsin

Bldg. 06018

Fort McCoy

Ft. McCoy Co: Monroe WI 54656-

Landholding Agency: Army

Property Number: 21200410108

Status: Unutilized

Comment: 356 sq. ft., presence of asbestos/lead paint, most recent use—gun club, off-site use only

Bldg. 06019

Fort McCoy

Ft. McCoy Co: Monroe WI 54656-

Landholding Agency: Army

Property Number: 21200410109

Status: Unutilized

Comment: 1133 sq. ft., presence of asbestos/lead paint, most recent use—gun club, off-site use only

Suitable/Unavailable Properties

Buildings (by State)

Colorado

Bldg. 1040

Fort Carson

Ft. Carson Co: El Paso CO 80913-

Landholding Agency: Army

Property Number: 21200410088

Status: Unutilized

Comment: 13,280 sq. ft., needs repair, presence of asbestos/lead paint, most recent use—dining facility, off-site use only

Bldgs. P1042, P1043, P1044

Fort Carson

Ft. Carson Co: El Paso CO 80913-

Landholding Agency: Army

Property Number: 21200410089

Status: Unutilized

Comment: 40,639 sq. ft., needs repair, presence of asbestos/lead painting, most recent use—barracks, off-site use only

Bldg. 1045

Fort Carson

Ft. Carson Co: El Paso CO 80913-

Landholding Agency: Army

Property Number: 21200410090

Status: Unutilized

Comment: 12,115 sq. ft., needs repair, presence of asbestos/lead paint, most recent use—admin/supply, off-site use only

Bldgs. P1046, P1047

Fort Carson

Ft. Carson Co: El Paso CO 80913-

Landholding Agency: Army

Property Number: 21200410091

Status: Unutilized

Comment: 40,639 sq. ft., needs repair, presence of asbestos/lead paint, most recent use—barracks, off-site use only

Bldg. P1049

Fort Carson

Ft. Carson Co: El Paso CO 80913-

Landholding Agency: Army

Property Number: 21200410092

Status: Unutilized

Comment: 12,115 sq. ft., needs repair, presence of asbestos/lead paint, most recent use—admin/supply, off-site use only

Maryland

Bldg. 8608

Fort George G. Meade

Ft. Meade Co: MD 20755-5115

Landholding Agency: Army

Property Number: 21200410099

Status: Unutilized

Comment: 2372 sq. ft., concrete block, most recent use—PX exchange, off-site use only

Bldg. 8612

Fort George G. Meade

Ft. Meade Co: MD 20755-5115

Landholding Agency: Army

Property Number: 21200410101

Status: Unutilized

Comment: 2372 sq. ft., concrete block, most recent use—family life ctr., off-site use only

Missouri

Bldg. 5760

Fort Leonard Wood

Ft. Leonard Wood Co: Pulaski MO 65743-8944

Landholding Agency: Army

Property Number: 21200410102

Status: Unutilized

Comment: 2000 sq. ft., most recent use—classroom, off-site use only

Bldg. 5762

Fort Leonard Wood

Ft. Leonard Wood Co: Pulaski MO 65743-8944

Landholding Agency: Army

Property Number: 21200410103

Status: Unutilized

Comment: 104 sq. ft., off-site use only

Bldg. 5763

Fort Leonard Wood

Ft. Leonard Wood Co: Pulaski MO 65743-8944

Landholding Agency: Army

Property Number: 21200410104

Status: Unutilized

Comment: 120 sq. ft., most recent use—observation tower, off-site use only

Bldg. 5765

Fort Leonard Wood

Ft. Leonard Wood Co: Pulaski MO 65743-8944

Landholding Agency: Army

Property Number: 21200410105

Status: Unutilzed

Comment: 800 sq. ft., most recent use—range support, off-site use only

North Carolina

Bldgs. 400-405

Military Ocean Terminal

Southport Co: Brunswick NC 28461-

Landholding Agency: Army

Property Number: 21200410106

Status: Excess

Comment: housing—1 residence, 2 duplexes, presence of asbestos/lead paint, off-site use only

Virginia

Bldg. T0258

Fort Monroe

Ft. Monroe Co: VA 23651-

Landholding Agency: Army

Property Number: 21200410107

Status: Excess

Comment: 4830 sq. ft., possible lead paint, presence of asbestos, most recent use—admin., off-site use only

Unsuitable Properties

Buildings (by State)

Alaska

Heavy Equipment Shed

Coast Guard

off Hanagita Street

Valdez Co: AK

Landholding Agency: Coast Guard

Property Number: 88200410010

Status: Excess

Reason: Extensive deterioration

California

Bldg. P7057

Marine Corps Base

Camp Pendleton Co: CA 92055-

Landholding Agency: Navy

Property Number: 77200410024

Status: Excess

Reason: Extensive deterioration

Guam

Bldgs. 201, 202

Naval Forces

Marianas Co: Waterfront GU

Landholding Agency: Navy

Property Number: 77200410025

Status: Excess

Reason: Extensive deterioration

Bldg. 151

Naval Forces

Marianas Co: Waterfront GU

Landholding Agency: Navy

Property Number: 77200410026

Status: Excess

Reason: Extensive deterioration

Bldg. 262

Naval Forces

Marianas Co: Waterfront GU

Landholding Agency: Navy

Property Number: 77200410027

Status: Excess

Reason: Extensive deterioration

Bldg. 369A

Naval Forces

Marianas Co: Waterfront GU

Landholding Agency: Navy

Property Number: 77200410028

Status: Excess

Reason: Extensive deterioration

Bldg. 739

Naval Forces

Marianas Co: Waterfront GU

Landholding Agency: Navy

Property Number: 77200410029

Status: Excess

Reason: Extensive deterioration

Bldg. 741

Naval Forces

Marianas Co: Waterfront GU

Landholding Agency: Navy

Property Number: 77200410030

Status: Excess

Reason: Extensive deterioration

Bldg. 865

Naval Forces

Marianas Co: Waterfront GU

Landholding Agency: Navy

Property Number: 77200410031

Status: Excess

Reason: Extensive deterioration

Bldg. 3011

Naval Forces

Marianas Co: Waterfront GU

Landholding Agency: Navy

Property Number: 77200410032

Status: Excess

Reason: Extensive deterioration

Idaho

Bldg. CPP T1/T5

Idaho Natl Eng & Env Lab

Scoville Co: Butte ID 83415-

Landholding Agency: Energy

Property Number: 41200410008

Status: Excess

Reason: Secured Area

Bldg. CPDTB1

Idaho Natl Eng & Env Lab

Scoville Co: Butte ID 83415-

Landholding Agency: Energy

Property Number: 41200410009

Status: Excess

Reason: Secured Area

Bldgs. CPPTB4, CPPTB6

Idaho Natl Eng & Env Lab

Scoville CO: Butte ID 83415-

Landholding Agency: Energy

Property Number: 41200410010

Status: Excess

Reason: Secured Area

Bldgs. CPP617, CPP169

Idaho Natl Eng & Env Lab

Scoville CO: Butte ID 83415-

Landholding Agency: Energy

Property Number: 41200410011

Status: Excess

Reason: Secured Area

Bldg. CPP620A

Idaho Natl Eng & Env Lab

Scoville CO: Butte ID 83415-

Landholding Agency: Energy

Property Number: 41200410012

Status: Excess

Reason: Secured Area

Bldg. CPP637/620

Idaho Natl Eng & Env Lab

Scoville CO: Butte ID 83415-

Landholding Agency: Energy

Property Number: 41200410013

Status: Excess

Reason: Secured Area

Bldgs. CPP638, CPP642

Idaho Natl Eng & Env Lab

Scoville CO: Butte ID 83415-

Landholding Agency: Energy

Property Number: 41200410014

Status: Excess

Reason: Secured Area

Bldgs. CPP656, 664

Idaho Natl Eng & Env Lab

Scoville CO: Butte ID 83415-

Landholding Agency: Energy

Property Number: 41200410015

Status: Excess

Reason: Secured Area

Bldgs. CPP665, CPP672

Idaho Natl Eng & Env Lab

Scoville CO: Butte ID 83415-

Landholding Agency: Energy

Property Number: 41200410016

Status: Excess

Reason: Secured Area

Bldgs. CPP682, CPP693

Idaho Natl Eng & Env Lab

Scoville CO: Butte ID 83415-

Landholding Agency: Energy

Property Number: 41200410017

Status: Excess

Reason: Secured Area

Bldgs. CPP695, CPP702

Idaho Natl Eng & Env Lab

Scoville CO: Butte ID 83415-

Landholding Agency: Energy

Property Number: 41200410018

Status: Excess

Reason: Secured Area

Bldgs. CPP710, CPP712

Idaho Natl Eng & Env Lab

Scoville Co: Butte ID 83415-

Landholding Agency: Energy

Property Number: 41200410019

Status: Excess

Reason: Secured Area

Bldg. CPP743

Idaho Natl Eng & Env Lab

Scoville Co: Butte ID 83415-

Landholding Agency: Energy

Property Number: 41200410020

Status: Excess

Reason: Secured Area

Bldgs. CPP1616, CPP1630

Idaho Natl Eng & Env Lab

Scoville Co: Butte ID 83415-

Landholding Agency: Energy

Property Number: 41200410021

Status: Excess

Reason: Secured Area

Bldgs. CPP1647, CPP1653

Idaho Natl Eng & Env Lab

Scoville Co: Butte ID 83415-

Landholding Agency: Energy

Property Number: 41200410022

Status: Excess

Reason: Secured Area

Bldg. CPP1677

Idaho Natl Eng & Env Lab

Scoville Co: Butte ID 83415-

Landholding Agency: Energy

Property Number: 41200410023

Status: Excess

Reason: Secured Area

Bldgs. TAN640, TAN641

Idaho Natl Eng & Env Lab

Scoville Co: Butte ID 83415-

Landholding Agency: Energy

Property Number: 41200410024

Status: Excess

Reason: Secured Area

Bldgs. TAN642, TAN644

Idaho Natl Eng & Env Lab

Scoville Co: Butte ID 83415-

Landholding Agency: Energy

Property Number: 41200410025

Status: Excess

Reason: Secured Area

Bldgs. TAN645, TAN646

Idaho Natl Eng & Env Lab

Scoville Co: Butte ID 83415-

Landholding Agency: Energy

Property Number: 41200410026

Status: Excess

Reason: Secured Area

Bldgs. TAN652, TAN728

Idaho Natl Eng & Env Lab

Scoville Co: Butte ID 83415-

Landholding Agency: Energy

Property Number: 41200410027

Status: Excess

Reason: Secured Area

Bldg. TAN731

Idaho Natl Eng & Env Lab

Scoville Co: Butte ID 83415-

Landholding Agency: Energy

Property Number: 41200410028

Status: Excess

Reason: Secured Area

Illinois

Storage Bldg

USCG Auxiliary Radio Site

Waukegan Co: Lakee IL 60085-

Landholding Agency: Coast Guard

Property Number: 88200410011

Status: Excess

Reason: Secured Area

Nevada

42 Bldgs.

Nellis Air Force Base

Tonopah Co: Nye NV 89049-

Location: 49-01, NM104, NM105, 03-35A-H, 03-35J-N, 03-36A-C, 03-36E-H, 03-36J-N, 03-36R, 03-37, 15036, 03-44A-D, 03-46, 03-47, 03-49, 03-88, 03-89, 03-90

Landholding Agency: Energy

Property Number: 41200410029

Status: Unutilized

Reason: Secured Area

[FR Doc. 04-5398 Filed 3-11-04; 8:45 am]

BILLING CODE 4210-29-M